DEPARTMENT OF COMMERCE

National Oceanic and Atmospheric Administration

[RTID 0648-XF088]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council (Council) will hold public meetings of the Council including joint sessions with the Atlantic States Marine Fisheries Commission (ASMFC) Interstate Fishery Management Programs (ISFMP) Policy Board and the Summer Flounder, Scup, and Black Sea Bass Management Board.

DATES: The meetings will be held Tuesday, December 16 through Thursday, December 18, 2025. For agenda details, see SUPPLEMENTARY INFORMATION.

ADDRESSES: This meeting will be an in-person meeting with a virtual option. Council members, other meeting participants, and members of the public will have the option to participate in person at Le Méridien Washington DC—The Madison (1177 15th St. NW, Washington, DC 20005) or virtually via Webex webinar. Webinar connection instructions and briefing materials will be available at: https://www.mafmc.org/briefing/december-2025.

Council address: Mid-Atlantic Fishery Management Council, 800 N State St., Suite 201, Dover, DE 19901; telephone: (302) 674-2331; https://www.mafmc.org.

FOR FURTHER INFORMATION CONTACT: Christopher M. Moore, Ph.D., Executive Director, Mid-Atlantic Fishery Management Council; telephone: (302) 526-5255. The Council's website, https://www.mafmc.org, also has details on the meeting location, proposed agenda, webinar listen-in access, and briefing materials.

SUPPLEMENTARY INFORMATION: The following items are on the agenda, although agenda items may be addressed out of order (changes will be noted on the Council's website when possible.)

Tuesday, December 16th

Atlantic Mackerel Framework Including Rebuilding, 2026-2027 Specifications, and River Herring/Shad Cap

Review joint Committee (Mackerel, Squid, and Butterfish; and River Herring and Shad) recommendations

Review recommendations from the Scientific and Statistical Committee (SSC), Monitoring Committee, Advisory Panel, and staff

Select preferred alternatives and take final action

Joint MAFMC-NEFMC Spiny Dogfish Framework (Including Accountability Measures Modifications and 2026-2027 Specifications

Review NEFMC final action and consider if any modifications to October 2025 MAFMC actions are warranted

——— LUNCH ———

Council Convenes with the Atlantic States Marine Fisheries Commission's (ASMFC's) Policy Board

Recreational Sector Separation Amendment

Review draft alternatives and recommendations from the Fishery Management Action Team/Plan Development Team, Advisory Panels, and Commission's Law Enforcement Committee

Provide input to refine draft alternatives for inclusion in Draft Amendment/Public Hearing Document

Council and ASMFC Policy Board Adjourn

Council Convenes with the ASMFC Summer Flounder, Scup, and Black Sea Bass Management Board

2026-2027 Summer Flounder Recreational Measures

Review Advisory Panel and Monitoring Committee recommendations

Determine percent change in expected harvest required under the Percent Change Approach for 2026-2027

Recommend conservation equivalency or coastwide management and associated measures for 2026-2027

Provide preliminary guidance on development of state measures proposals if necessary

Wednesday, December 17th

2026-2027 Scup Recreational Measures

Review Advisory Panel and Monitoring Committee recommendations

Determine percent change in expected harvest required under the Percent Change Approach for 2026-2027

Recommend 2026-2027 recreational management measures for Federal waters

Provide preliminary guidance on development of state measures proposals if necessary

2026-2027 Black Sea Bass Recreational Measures

Review Advisory Panel and Monitoring Committee recommendations

Determine percent change in expected harvest required under the Percent Change Approach for 2026-2027

Recommend conservation equivalency or coastwide management and associated measures for 2026-2027

Provide preliminary guidance on development of state measures proposal if necessary

ASMFC Summer Flounder, Scup, and Black Sea Bass Management Board Adjourns

——— LUNCH ———

Recreational Tilefish Permitting and Reporting Framework

Review and provide input on the modified draft range of alternatives

2026 Implementation Plan

Review and approve 2026 Implementation Plan

Ricks E Savage Award Presentation

Presentation of the 2025 Ricks E Savage Award

Thursday, December 18th

Inflation Reduction Act (IRA) Governance Projects Presentation

Overview of East Coast Council governance projects and planned activities

Business Session

Committee Reports (SSC); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

(Authority: 16 U.S.C. 1801 et seq.)

Dated: November 21, 2025.
Rey Israel Marquez,
Acting Deputy Director, Office of Sustainable Fisheries, National Marine Fisheries Service.

[FR Doc. 2025-21107 Filed 11-25-25; 8:45 am]

BILLING CODE 3510-22-P